DEPARTMENT OF TRANSPORTATION

Federal Aviation Administration

14 CFR Part 39

[Docket No. FAA-2019-0615; Product Identifier 2018-CE-053-AD; Amendment 39-21214; AD 2020-17-09]

RIN 2120-AA64

Airworthiness Directives; GA8 Airvan (Pty) Ltd Airplanes

AGENCY: Federal Aviation Administration (FAA), Department of Transportation (DOT).

ACTION: Final rule.

SUMMARY: The FAA is adopting a new airworthiness directive (AD) for GA8 Airvan (Pty) Ltd Models GA8 and GA8-TC320 airplanes. This AD results from mandatory continuing airworthiness information (MCAI) issued by an aviation authority of another country to identify and correct an unsafe condition on an aviation product. The MCAI describes the unsafe condition as a design change to the fuselage strut pick up ribs No. 5 and 6 that requires a reduced life limit. The FAA is issuing this AD to require actions to address the unsafe condition on these products.

DATES: This AD is effective September 29, 2020.

The Director of the Federal Register approved the incorporation by reference of certain publications listed in the AD as of September 29, 2020.

ADDRESSES: For service information identified in this AD, contact GA8 Airvan (Pty) Ltd, c/o GippsAero Pty Ltd, Attn: Technical Services, P.O. Box 881, Morwell Victoria 3840, Australia; telephone: + 61 03 5172 1200; fax: +61 03 5172 1201; email: aircraft.techpubs@mahindraaerospace.com. You may view this referenced service information at the FAA Airworthiness Products Section, Operational Safety Branch, 901 Locust, Kansas City, Missouri 64106. For information on the availability of this material at the FAA, call (816) 329-4148. It is also available on the internet at https://www.regulations.gov by searching for Docket No. FAA-2019-0615.

Examining the AD Docket

You may examine the AD docket on the internet at https://www.regulations.gov by searching for and locating Docket No. FAA-2019-0615; or in person at Docket Operations between 9 a.m. and 5 p.m., Monday through Friday, except Federal holidays. The AD docket contains this final rule, the notice of proposed rulemaking (NPRM), the regulatory evaluation, any comments received, and other information. The address for Docket Operations is U.S. Department of Transportation, Docket Operations, M-30, West Building Ground Floor, Room W12-140, 1200 New Jersey Avenue SE, Washington, DC 20590.

FOR FURTHER INFORMATION CONTACT: Doug Rudolph, Aerospace Engineer, FAA, General Aviation & Rotorcraft Section, International Validation Branch, 901 Locust, Room 301, Kansas City, Missouri 64106; telephone: (816) 329-4059; fax: (816) 329-4090; email: doug.rudolph@faa.gov.

SUPPLEMENTARY INFORMATION:

Discussion

The FAA issued an NPRM to amend 14 CFR part 39 by adding an AD that would apply to GA8 Airvan (Pty) Ltd Models GA8 and GA8-TC320 airplanes. The NPRM published in the Federal Register on August 12, 2019 (84 FR 39782). The NPRM proposed to correct an unsafe condition for the specified products and was based on MCAI originated by an aviation authority of another country. The Civil Aviation Safety Authority (CASA), which is the aviation authority for Australia, issued AD No. AD/GA8/10, dated October 17, 2018 (referred to after this as “the MCAI”), which states:

Airworthiness Limitations are promulgated in the GippsAero Service Manual [Airworthiness Limitations Section] ALS Chapter 4 Airworthiness Limitations. The change to the Airworthiness Limitations by GippsAero on 15 May 2018 was the result of the manufacturer changing the design of the fuselage strut pick up ribs no. 5 and 6. The revised rib designs have a different life limitation to the earlier rib designs. These Airworthiness Limitations are approved by CASA and non-compliance with these limitations could result in an unsafe condition developing. The Service Manual Chapter 4 Airworthiness Limitations dated 15 May 2018 are mandatory in Australia however foreign National Aviation Authorities may not automatically require revision of service manuals without the issue of this AD.

While the U.S. type certificate holder is GA8 Airvan C/O GippsAero, service manuals for the GA8 and GA8-TC320 model airplanes are issued by GippsAero.

The MCAI can be found in the AD docket on the internet at: https://www.regulations.gov/document?D=FAA-2019-0615-0002.

Comments

The FAA gave the public the opportunity to participate in developing this AD. The FAA received no comments on the NPRM or on the determination of the cost to the public.

Conclusion

The FAA reviewed the relevant data and determined that air safety and the public interest require adopting the AD as proposed.

Related Service Information Under 1 CFR Part 51

GippsAero has issued GippsAero, Model GA8, GA8 Airplane Service Manual, C01-00-04, Chapter 4, Airworthiness Limitations, dated May 14, 2018; and GippsAero Model GA8-TC 320, GA8-TC 320 Airplane Service Manual, C01-00-06, Chapter 4, Airworthiness Limitations, dated May 14, 2018. For the applicable airplane model indicated on the documents, these revised airworthiness limitations establish life limits for certain fuselage strut pick up ribs No. 5 and 6. This service information is reasonably available because the interested parties have access to it through their normal course of business or by the means identified in the ADDRESSES section.

Costs of Compliance

The FAA estimates that this AD will affect 30 products of U.S. registry. The FAA also estimates that it will take about 1 work-hour per product to comply with the basic requirements of this AD. The average labor rate is $85 per work-hour.

Based on these figures, the FAA estimates the cost of this AD on U.S. operators to be $2,550, or $85 per product.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-17-09 GA 8 Airvan (Pty) Ltd: Amendment 39-21214; Docket No. FAA-2019-0615; Product Identifier 2018-CE-053-AD.

(a) Effective Date

This airworthiness directive (AD) becomes effective September 29, 2020.

(b) Affected ADs

None.

(c) Applicability

This AD applies to GA8 Airvan (Pty) Ltd Model GA8 and Model GA8-TC320 airplanes, all serial numbers, certificated in any category.

(d) Subject

Air Transport Association of America (ATA) Code 5: Time Limits.

(e) Reason

This AD was prompted by mandatory continuing airworthiness information (MCAI) issued by the aviation authority of another country to identify and correct an unsafe condition on an aviation product. The MCAI describes the unsafe condition as a change to the airworthiness limitations because of a design change by the manufacturer to the fuselage strut pick up ribs No. 5 and 6. The FAA is issuing this AD to require a revision of the airplane service manuals and incorporate new airworthiness limitations.

(f) Actions and Compliance

Unless already done, before further flight, comply with the actions in paragraphs (f)(1) through (3) of this AD.

(1) Remove and replace Chapter 4, Airworthiness Limitations, in your airplane existing service manual with GippsAero Model GA8, GA8 Airplane Service Manual, C01-00-04, Chapter 4, Airworthiness Limitations, dated May 14, 2018, or GippsAero Model GA8-TC 320, GA8-TC 320 Airplane Service Manual, C01-00-06, Chapter 4, Airworthiness Limitations, dated May 14, 2018, as applicable to your model airplane.

(2) Remove from service each part listed in Chapter 4, Airworthiness Limitations, in your airplane service manual that has reached or exceeded its new life limit.

(3) Except as provided in paragraph (g)(1) of this AD, no alternative life limits may be approved for the parts listed in GippsAero Model GA8, GA8 Airplane Service Manual, C01-00-04, Chapter 4, Airworthiness Limitations, dated May 14, 2018, or GippsAero Model GA8-TC 320, GA8-TC 320 Airplane Service Manual, C01-00-06, Chapter 4, Airworthiness Limitations, dated May 14, 2018.

(g) Alternative Methods of Compliance (AMOCs)

The Manager, International Validation Branch, FAA, has the authority to approve AMOCs for this AD, if requested using the procedures found in 14 CFR 39.19. Send information to ATTN: Doug Rudolph, Aerospace Engineer, FAA, General Aviation & Rotorcraft Section, International Validation Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(h) Related Information

Refer to MCAI issued by the Civil Aviation Safety Authority for the Commonwealth of Australia AD No. AD/GA8/10, dated October 17, 2018, for related information. The MCAI can be found in the AD docket on the internet at: https://www.regulations.gov/document?D=FAA-2019-0615-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GippsAero Model GA8, GA8 Airplane Service Manual, C01-00-04, Chapter 4, Airworthiness Limitations, dated May 14, 2018.

(ii) GippsAero Model GA8-TC 320, GA8-TC 320 Airplane Service Manual, C01-00-06, Chapter 4, Airworthiness Limitations, dated May 14, 2018.

(3) For service information identified in this AD, contact GA8 Airvan (Pty) Ltd, c/o GippsAero Pty Ltd, Attn: Technical Services, P.O. Box 881, Morwell Victoria 3840, Australia; telephone: + 61 03 5172 1200; fax: +61 03 5172 1201; email: aircraft.techpubs@mahindraaerospace.com.

(4) You may view this service information at the FAA, Airworthiness Products Section, Operational Safety Branch, 901 Locust, Kansas City, Missouri 64106. For information on the availability of this material at the FAA, call (816) 329-4148. In addition, you can access this service information on the internet at https://www.regulations.gov by searching for and locating Docket No. FAA-2019-0615.

(5) You may view this service information that is incorporated by reference at the National Archives and Records Administration (NARA). For information on the availability of this material at NARA, email: fedreg.legal@nara.gov, or go to: https://www.archives.gov/federal-register/cfr/ibr-locations.html.

Issued on August 18, 2020.
Lance T. Gant,
Director, Compliance & Airworthiness Division, Aircraft Certification Service.

[FR Doc. 2020-18492 Filed 8-24-20; 8:45 am]

BILLING CODE 4910-13-P